DEPARTMENT OF COMMERCE

Bureau of Industry and Security

15 CFR Part 754

[Docket No. 040504140-4140-01]

Notice of Public Hearing on the Receipt by the Department of Commerce of a Written Petition Requesting the Imposition of Short Supply Export Controls and Monitoring on Recyclable Metallic Materials Containing Copper

AGENCY: Bureau of Industry and Security, Commerce.

ACTION: Notice of public hearing.

SUMMARY: On April 7, 2004, the Bureau of Industry and Security (BIS) received a written petition requesting the imposition of monitoring and export controls on copper scrap and copper-alloy scrap; the petitioner also requested a public hearing on the issue. This notice advises the public of the date, time, and location of the hearing, and establishes the procedures to be followed to request participation as a speaker, or to attend the hearing.

DATES: The public hearing will be held on May 19, 2004, in the auditorium of the Herbert C. Hoover Building, Department of Commerce, 14th Street and Pennsylvania Avenue, NW., Washington, DC 20230, from 10 a.m. to 5 p.m. At the Department's discretion, the public hearing may continue on May 20, 2004.

ADDRESSES: Requests to participate as a speaker at the hearing may be mailed to the Regulatory Policy Division, Attention: Copper Short Supply Petition, Bureau of Industry and Security, P.O. Box 273, Washington, DC 20044, or sent by facsimile to (202) 482-5650.

FOR FURTHER INFORMATION CONTACT: Daniel O. Hill, Director of the Office of Strategic Industries and Economic Security, Bureau of Industry and Security, who may be reached at (202) 482-4506.

SUPPLEMENTARY INFORMATION: On April 7, 2004, a petition was received by the Department of Commerce from the Copper & Brass Fabricators Council, Inc., and the Non-Ferrous Founders' Society requesting that the Department impose monitoring and controls on exports of recyclable metallic materials containing copper pursuant to the short supply provisions of section 7(c) of the Export Administration Act and section 754.7 of the Export Administration Regulations. The petition also requested that the Department hold a hearing on the subject of the petition.

As described in the April 22, 2004, Federal Register notice (69 FR 21815) in which the Department acknowledged receipt of the petition and noted the request for a public hearing, requests to participate as a speaker at the hearing must be received by the Department by May 13, 2004. The request should contain a telephone number where the presenter can be reached before the hearing. All requests should describe the presenter's interest in the proceeding, explain why that person is an appropriate representative of a group or class of persons that has such an interest, and enclose a concise summary of the proposed oral presentation. Potential presenters are advised to review the April 22, 2004, Federal Register notice that describes the areas of interest and the information sought by the Department from the interested public. Please note that the submission of a request to speak, and the accompanying written summary, is separate from any written comments provided in response to the April 22, 2004, Federal Register notice.

The Department will seek to provide an opportunity for a full range of perspectives regarding the petition. In the interest of fulfilling this objective, the Department reserves the right to select the presenters on the basis of their written requests to speak, and the written summaries of their proposed remarks. Should time constraints preclude including all of those requesting to be heard, priority consideration will be given to those presenters whose written request to speak, and accompanying statement summary, most comprehensively address the issues raised by the petitioner, and the areas of interest and information sought by the Department in its April 22, 2004, Federal Register notice. The Department also reserves the right to schedule the order of the presentations and to establish additional procedures governing the conduct of the hearing. The Department will designate the Hearing Officer and identify additional federal government representatives who will serve on a panel at the hearing.

The Department will notify each person selected to be heard no later than 5 p.m. on May 17, 2004. Persons selected to be heard should bring 25 copies of their statement to the hearing. The length of each presentation will be limited to ten minutes, with a subsequent period for questions from the members of the hearing panel. Members of the public or presenters who attend the hearing will not be permitted to question any other presenters or members of the panel.

Please be advised that the requests to participate at the hearing, the summaries of proposed remarks, and a transcript of the hearing will be made a matter of public record, and available for review on the BIS Web site at http://www.bis.doc.gov. If interested parties cannot access the BIS Web site, they are encouraged to use the contact information noted above for assistance.

The general public is invited to attend the hearing, and is advised that compliance with security procedures is required before entering the Department, so attendees should time their arrival accordingly.

Dated: May 5, 2004.
Peter Lichtenbaum,
Assistant Secretary for Export Administration.

[FR Doc. 04-10546 Filed 5-7-04; 8:45 am]

BILLING CODE 3510-33-P